DEPARTMENT OF EDUCATION

Submission for OMB Review; Comment Request

Correction

In notice document 00-10872 appearing on page 25468 in the issue of Tuesday, May 2, 2000, make the following correction:

On page 25468, in the first column, in the DATES section, in the second and third lines, “July 3, 2000” should read “June 1, 2000.”.

[FR Doc. C0-10872 Filed 5-4-00; 8:45 am]

BILLING CODE 1505-01-D

DEPARTMENT OF COMMERCE

International Trade Administration

Antidumping or Countervailling Duty Order, Finding, or Suspended Investigation; Opportunity To Request Administrative Review

Correction

In notice document 00-9107 appearing on page 19736 in the issue of Wednesday, April 12, 2000, the table is corrected to read as follows:

| Period
Antidumping Duty Proceedings
Canada: Sugar and Syrups,* A-122-085 | 4/1/99-12/31/99
France: Sorbitol, A-427-001 | 4/1/99-3/31/00
Greece: Electrolytic Manganese Dioxide, A-484-801 | 4/1/99-3/31/00
Japan: Calcium Hypochlorite*, A-588-401 | 4/1/99-12/31/99
Japan: Electrolytic Manganese Dioxide*, A-588-806 | 4/1/99-3/31/00
Japan: 3.5″ Microdisks and Media Thereof*, A-588-802 | 4/1/99-12/31/99
Kenya: Standard Carnations*, A-779-602 | 4/1/99-12/31/99
Mexico: Fresh Cut Flowers*, A-201-601 | 4/1/99-12/31/99
Norway: Fresh and Chilled Atlantic Salmon, A-403-801 | 4/1/99-3/31/00
Republic of Korea: Color Television Receivers*, A-580-008 | 4/1/99-12/31/99
Taiwan: Color Television Receivers*, A-583-009 | 4/1/99-12/31/99
The People's Republic of China: Brake Rotors, A-570-846 | 4/1/99-3/31/00
Turkey: Certain Steel Concrete Reinforcing Bars, A-489-807 | 4/1/99-3/31/00
Countervailing Duty Proceedings
Norway: Fresh and Chilled Atlantic Salmon, C-403-802 | 4/1/99-12/31/99
Peru: Pompon Chrysanthemums, C-333-601 | 4/1/99-12/31/99
Suspension Agreements
None.
* Order revoked effective 01/01/2000.

[FR Doc. C0-9107 Filed 5-4-00; 8:45 am]

BILLING CODE 1505-01-D

DEPARTMENT OF ENERGY

10 CFR Part 810

RIN 1992-AA24

Assistance to Foreign Atomic Energy Activities

Correction

In rule document 00-7181 beginning on page 16124 in the issue of Monday, March 27, 2000, make the following correction:

§810.8 [Corrected]

On page 16127, in §810.8(a), in the second column:

1. In the third line, after “the” add “following” and in the fourth line, remove “following”.

2. In the list of countries, the 20th entry “China, People's Republic of Comoros*” should read “China, People's Republic of*” and “Comoros*” should become the 21st entry.

[FR Doc. C0-7181 Filed 5-4-00; 8:45 am]

BILLING CODE 1505-01-D

FARM CREDIT ADMINISTRATION

12 CFR Part 614

RIN 3052-AB67

Loan Policies and Operations; Participations

Correction

In rule document 00-9955 beginning on page 24101, in the issue of Tuesday, April 25, 2000, make the following corrections:

1. On page 24102, in the first column, in the 10th line, “participation” should read “participations”.

§ 614.4000 [Corrected]

2. On page 24102, in the second column, in amendatory instruction 2. “§ 614.000” should read “§ 614.4000”.

[FR Doc. C0-9955 Filed 5-4-00; 8:45 am]

BILLING CODE 1505-01-D